GENERAL SERVICES ADMINISTRATION

Privacy Act of 1974; Notice of New System of Records

AGENCY: General Services Administration

SUMMARY: GSA proposes to establish a new system of records subject to the Privacy Act of 1974, as amended, 5 U.S.C. 552a.

DATES: Effective Date: June 25, 2010.

FOR FURTHER INFORMATION CONTACT: Call or e-mail the GSA Privacy Act Officer: telephone 202-208-1317; e-mail gsa.privaccyact@gsa.gov.

ADDRESSES: GSA Privacy Act Officer (CIB), General Services Administration, 1800 F Street, NW., Washington, DC 20405.

SUPPLEMENTARY INFORMATION: GSA proposes to establish a new system of records subject to the Privacy Act of 1974, 5 U.S.C. 552a. The system will serve as a repository for GSA's Public Buildings Service's documents to reduce paper storage and provide reliable and secure access to documents where and when they are needed. The system contains information related to unsolicited resumes from the public, suitability adjudication letters, training and warrant documents from GSA PBS employees, and other administrative employee documents such as telework agreements.

Dated: May 14, 2010.
Cheryl M. Paige,
Director, Office of Information Management.

SYSTEM NAME:

GSA/PBS- 8 (Electronic Document Management System - EDMS)

SYSTEM LOCATION:

Public Buildings Service (PBS), Enterprise Service Center (ESC) in Chantilly, VA.

CATEGORIES OF INDIVIDUALS COVERED BY THE SYSTEM:

Individuals covered by the system are employees and the individuals who submit unsolicited resumes to the Public Buildings Service.

CATEGORIES OF RECORDS IN THE SYSTEM:

The system contains information related to unsolicited resumes from the public, suitability adjudication letters, training and warrant documents for GSA PBS employees, and other administrative employee documents such as telecommute agreements.

AUTHORITY FOR MAINTENANCE OF THE SYSTEM:

Chapter 31 of Title 44—Records Management by Federal Agencies (44 U.S.C. 3101 et seq.).

PURPOSE:

To establish and maintain an electronic system to serve as a repository for GSA's PBS documents to reduce paper storage and provide reliable and secure access to documents where and when they are needed.

ROUTINE USES OF THE SYSTEM RECORDS, INCLUDING CATEGORIES OF USERS AND THEIR PURPOSES FOR USING THE SYSTEM.

System information may be accessed and used by the employees who place the documents into the system (document owners), designated employees, and managers to store and access unsolicited resumes received from members of the public for job consideration; to maintain documentation of the completion of certain administrative processes such as suitability adjudication letters, training certificates, and warrant documents; and to maintain employee records not included in other systems such as telecommute agreements.

Information from this system also may be disclosed as a routine use:

a. In any legal proceeding, where pertinent, to which GSA, a GSA employee, or the United States is a party before a court or administrative body.

b. To a Federal, State, local or foreign agency responsible for investigating, prosecuting, enforcing, or carrying out a statute, rule, regulation, or order when GSA becomes aware of a violation or potential violation of civil or criminal law or regulation.

c. To an appeal, grievance, hearing, or complaint examiner; an equal employment opportunity investigator, arbitrator, or mediator; and an exclusive representative or other person authorized to investigate or settle a grievance, complaint, or appeal filed by an individual who is the subject of the records.

d. To the Office of Personnel Management (OPM), the Office of Management and Budget (OMB), and the Government Accountability Office (GAO) in accordance with their responsibility for evaluating Federal programs.

e. To a member of Congress or his or her staff on behalf of and at the request of the individual who is the subject of the record.

f. To an expert, consultant, or contractor of GSA in the performance of a Federal duty to which the information is relevant.

g. To the National Archives and Records Administration (NARA) for records management purposes.

h. To appropriate agencies, entities when (1) the Agency suspects or has confirmed that the security or confidentiality of information in the system of records has been compromised; (2) the Agency has determined that as a result of the suspected or confirmed compromise there is a risk of harm to economic or property interests, identity theft or fraud, or harm to the security or integrity or this system or other systems or programs (whether maintained by GSA or another agency or entity) that rely upon the compromised information; and (3) the disclosure made to such agencies, entities, and persons is reasonably necessary to assist in conjunction with GSA's efforts to respond to the suspected or confirmed compromise and prevent, minimize, or remedy such harm.

POLICIES AND PRACTICES FOR STORING, RETRIEVING, ACCESSING, AND RETAINING, AND DISPOSING OF SYTEM RECORDS:

STORAGE:

All records are stored electronically.

RETRIEVABILITY:

Records are retrievable based on any information contained in the document. Documents are full text indexed by the system.

SAFEGUARDS:

System records are safeguarded in accordance with the requirements of the Privacy Act. Access is limited to authorized individuals with passwords, and the database is maintained behind a firewall certified by the National Computer Security Association.

RETENTION AND DISPOSAL:

System records are retained and disposed of according to GSA records maintenance and disposition schedules and the requirements of the National Archives and Records Administration.

SYSTEM MANAGER AND ADDRESS:

Office of PBS Chief Information Officer (PGA), 1776 G Street NW., Room: 1776 G, Washington, DC 20006.

NOTIFICATION PROCEDURE:

Individuals wishing to inquire if the system contains information about them should contact the system manager at the above address.

RECORD ACCESS PROCEDURES:

Individuals wishing to access their own records should contact the system manager at the address above.

CONTESTING RECORD PROCEDURE:

Individuals wishing to amend their records should contact the system manager at the address above.

RECORD SOURCE CATEGORIES:

The sources of information in the system are the individuals, employees, supervisors, and program managers.

[FR Doc. 2010-12683 Filed 5-25-10; 8:45 am]

BILLING CODE 6820-34-S